DEPARTMENT OF LABOR

Employment and Training Administration

[TA-W-85,640]

Covidien LP, North American Shared Services Group, Mansfield, Massachusetts; Notice of Negative Determination Regarding Application for Reconsideration

By application dated December 11, 2014, a separated worker requested administrative reconsideration of the Department of Labor's negative determination regarding eligibility to apply for worker adjustment assistance, applicable to workers and former workers of Covidien LP, North American Shared Services Group, Mansfield, Massachusetts (Subject Firm). The denial notice was signed on November 25, 2014, and the Notice of Determination was published in the Federal Register on December 10, 2014 (79 FR 73338).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The initial investigation revealed that the subject firm does not produce an article within the meaning of Section 222(a) or Section 222(b) of the Act. Rather, the investigation revealed that the workers' firm supplied services related to administrative support and customer services. In order to be considered eligible to apply for adjustment assistance under Section 223 of the Trade Act of 1974, the worker group seeking certification (or on whose behalf certification is being sought) must work for a “firm” or appropriate subdivision that produces an article. The definition of a firm includes an individual proprietorship, partnership, joint venture, association, corporation (including a development corporation), business trust, cooperative, trustee in bankruptcy, and receiver under decree of any court.

In the request for reconsideration, the petitioner stated that the workers of the subject firm should be eligible for TAA because the subject firm shifted to a foreign country the supply of like or directly competitive services with those provided by the workers of the subject firm.

The petitioner did not supply facts not previously considered; nor provide additional documentation indicating that there was either (1) a mistake in the determination of facts not previously considered or (2) a misinterpretation of facts or of the law justifying reconsideration of the initial determination. Based on these findings, the Department determines that 29 CFR 90.18(c) has not been met.

Conclusion

After careful review of the application and investigative findings, I conclude that there has been no error or misinterpretation of the law or of the facts which would justify reconsideration of the Department of Labor's prior decision. Accordingly, the application is denied.

Signed in Washington, DC, this 12th day of March, 2015.
Michael W. Jaffe,
Certifying Officer, Office of Trade Adjustment Assistance.

[FR Doc. 2015-06833 Filed 3-24-15; 8:45 am]

BILLING CODE 4510-FN-P